SMALL BUSINESS ADMINISTRATION

[Declaration of Disaster #3574]

Federated States of Micronesia

As a result of the President's major disaster declaration for Public Assistance on April 10, 2004, and Amendment 2 adding Individual Assistance on April 27, 2004, I find that the State of Yap, located within the Federated States Of Micronesia, constitutes a disaster area due to damages caused by Typhoon Sudal occurring on April 8, 2004, and continuing through April 14, 2004. Applications for loans for physical damage as a result of this disaster may be filed until the close of business on June 28, 2004, and for economic injury until the close of business on January 27, 2005, at the address listed below or other locally announced locations: U.S. Small Business Administration, Disaster Area 4 Office, P.O. Box 419004, Sacramento, CA 95841-9004.

The interest rates are:

| Percent
For Physical Damage:
Homeowners with credit available elsewhere | 6.125
Homeowners without credit available elsewhere | 3.125
Businesses with credit available elsewhere | 5.800
Businesses and non-profit organizations without credit available elsewhere | 2.900
Others (including non-profit organizations) with credit available elsewhere | 4.875
For Economic Injury:
Businesses and small agricultural cooperatives without credit available elsewhere | 2.900

The number assigned to this disaster for physical damage is 357408 and for economic injury the number is 9ZA900.

(Catalog of Federal Domestic Assistance Program Nos. 59002 and 59008)
Dated: April 28, 2004.
S. George Camp,
Acting Associate Administrator for Disaster Assistance.

[FR Doc. E4-1019 Filed 5-3-04; 8:45 am]

BILLING CODE 8025-01-P